DEPARTMENT OF ENERGY

Federal Energy Regulatory Commission

[Docket No. RP00-374-000]

Columbia Gas Transmission Corporation; Notice of Technical Conference

August 31, 2000.

In the Commission's order issued on August 23, 2000,¹ the Commission directed that a technical conference be held to address issues raised by the filing.

¹ 92 FERC 61,173 (2000).

Take notice that the technical conference will be held on Thursday, September 14, 2000, at 10:00 am, in a room to be designated at the offices of the Federal Energy Regulatory Commission, 888 First Street, NE, Washington, DC 20426.

All interested parties and Staff are permitted to attend.

Linwood A. Watson, Jr.,
Acting Secretary.

[FR Doc. 00-22937 Filed 9-6-00; 8:45 am]

BILLING CODE 6717-01-M